DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice dated August 13, 2002.

Activity/Operator | Location | Date
Murphy Exploration and Production Co., Initial Development Operations Coordination Plan, SEA No. N-7269 and S-5886 | Mississippi Canyon Area, Blocks 538 and 582, Leases OCS-G 16614 and 16623, located 36.8 miles from the nearest Louisiana shoreline | 07/18/02
Marathon Oil Company, Initial Exploration Plan, SEA Nos. N-7483 and N-7484 | Desoto Canyon Area; Blocks 445, 489, 490, 491 and 535; Leases OCS-G 23511, 23514, 23515, 23516 and 23520; located between 90 and 106 miles southeast of nearest coastline | 09/12/02
Anadarko Petroleum Corporation, Initial Exploration Plan, SEA No. N-7497 | Lloyd Ridge Area; Blocks 315, 316, 359 and 360; Leases OCS-G 23474, 23475, 23478 and 23479; located 130 miles from Louisiana coastline, 183 miles from Mississippi coastline, 179 miles from Alabama coastline, and 183 miles from Florida coastline | 09/11/02
W & T Offshore, Inc., Initial Development Operations Coordination Plan, SEA No. N-7328 | Garden Banks Area, Block 139, Lease OCS-G 17295, located 124 miles from the nearest Texas shoreline | 10/07/02
TotalFinaElf Exploration and Production U.S.A., Inc., Initial Development Operations Coordination Plan, SEA No. N-7249 | Mississippi Canyon Area, Block 243, Lease OCS-G 11080, located 25 miles from the nearest Louisiana shoreline | 03/07/02
Anadarko Petroleum Company, Initial Exploration Plan, SEA No. N-7533 | Lloyd Ridge Area, Blocks 5, 6, 49 and 50, Lease OCS-G 23450, 23451, 23457 and 23458 respectively, located 113 miles from the nearest Louisiana coastline, 161 miles from Mississippi, 158 miles from Alabama, 163 miles from Florida | 11/01/02
BP Exploration & Production, Inc., Initial Development Operations Coordination Plan, SEA No. N-7415 | Green Canyon Area, Block 826, Unit Agreement 754398016, Block 782, OCS-G 15610, Block 825, OCS-G 09981, Block 826, OCS-G 09982, located 128 miles from the nearest Louisiana coastline | 12/03/02
Freeport-McMoRan Sulphur, LLC, Revised Development Operations Coordination Plan, SEA No. R-3816 | Main Pass Area, Block 299, located 16 miles from shore, east of the Mississippi River Delta and Plaquemines Parish, Louisiana | 12/10/02
Energy Resource Technology, Inc., Structure Removal Activity, SEA Nos. ES/SR 02-089 and 02-090 | Eugene Island Area and Vermilion Area, Blocks 128A and 201, Leases OCS-G 00442 and 02075, located 30 miles southwest of Terrebonne Parish, Louisiana, and 60 miles south-southwest of Morgan City, Louisiana, located 55 miles south-southwest of Vermilion Parish, Louisiana, and 125 miles southwest of Morgan City, Louisiana, all respectively | 08/28/02
The Louisiana Land and Exploration Company, Structure Removal Activity, SEA Nos. ES/SR RA-2002-03 and RA-2002-04 | Eugene Island (South Addition) Area, Block 384, Lease OCS-G 03159, located 79 miles south-southwest of Terrebonne Parish, Louisiana, and 110 miles southwest of Fourchon, Louisiana | 10/15/02
Magnum Hunter Production, Inc., Structure Removal Activity, SEA No. ES/SR 02-114 | South Timbalier (South Addition) Area, Block 266, Lease OCS-G 15338, located 50 miles south of Lafourche Parish, Louisiana, and 58 miles south-southwest of Fourchon, Louisiana | 10/08/02
Spinnaker Exploration Company, Structure Removal Activity, SEA No. ES/SR 02-115 | High Island Area, Block 162, Lease OCS-G 21343, located 29 miles southeast of Jefferson County, Texas, and 44 miles east of Galveston, Texas | 10/16/02
J. M. Huber Corporation, Structure Removal Activity, SEA No. ES/SR 02-116 | Grand Isle Area, Block 55, Lease OCS-G 09676, located 23 miles southeast of Lafourche Parish, Louisiana, and 26 miles southeast of Fourchon, Louisiana | 10/30/02
Burlington Resources Offshore, Inc., Structure Removal Activity, SEA Nos. ES/SR RA-2002-06 and RA-2002-07 | Eugene Island Area, Block 159, OCS-G 04449, located 38 miles southwest of Terrebonne Parish, Louisiana, and 92 miles west of Fourchon, Louisiana | 11/14/02
ATP Oil & Gas Corporation, Structure Removal Activity, SEA Nos. 02-117 and 02-118 | West Cameron Area, Blocks 92 and 201, OCS-G 13829 and 13833 respectively, located 15 miles south of Cameron Parish, Louisiana, and 25 to 30 miles southwest of Cameron Parish, Louisiana, and 37 miles south-southeast of Cameron, Louisiana | 11/15/02
Walter Oil & Gas Corporation, Structure Removal Activity, SEA No. 02-119 | Grand Isle Area, Block 65, OCS-G 08730, located 23 miles southeast of LaFourche Parish, Louisiana, and 24 miles southeast of Fourchon, Louisiana | 11/05/02
ATP Oil & Gas Corporation, Structure Removal Activity, SEA No. 02-120 | West Cameron Area, Block 263, OCS-G 15072, located 50 miles south of Cameron Parish, Louisiana, and 60 miles south of Cameron, Louisiana | 12/11/02

Persons interested in reviewing environmental documents for the proposals listed above or obtaining information about SEAs and FONSIs prepared for activities on the Gulf of Mexico OCS are encouraged to contact MMS at the address or telephone listed in the FOR FURTHER INFORMATION CONTACT section.

Dated: December 23, 2002.
Chris C. Oynes,
Regional Director, Gulf of Mexico OCS Region.

[FR Doc. 03-2042 Filed 1-28-03; 8:45 am]

BILLING CODE 4310-MR-P